DEPARTMENT OF COMMERCE

National Oceanic and Atmospheric Administration

RIN 0648-XD305

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council) will hold public meetings.

DATES: The meeting will be held Tuesday, June 10, 2014 through Thursday, June 12, 2014. See SUPPLEMENTARY INFORMATION for specific dates and times.

ADDRESSES: The meetings will be held at the Radisson Hotel Freehold, 50 Gibson Place, Freehold, NJ 07728; telephone: (732) 780-3400.

Council Address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255.

SUPPLEMENTARY INFORMATION:

Tuesday, June 10, 2014

10 a.m. until 12 p.m.—The Surfclam and Ocean Quahog Committee will meet.

1 p.m. until 4 p.m.—The Ecosystems and Ocean Planning Committee will meet.

Wednesday, June 11, 2014

8:30 a.m.—The Council will convene.

8:30 a.m. until 9:30 a.m.—Surfclam and Ocean Quahog Specifications will be discussed.

9:30 a.m. until 12 p.m.—The Demersal Committee will meet as a Committee of the Whole.

1 p.m. until 2 p.m.—A Framework to open the Recreational Black Sea Bass Fishery in Wave 1 (Framework Meeting 1) will be discussed.

2 p.m. until 3 p.m.—The River Herring & Shad Committee will meet as a Committee of the Whole.

3 p.m. until 5 p.m.—The Mackerel, Squid, and Butterfish Committee will meet as a Committee of the Whole.

5 p.m. until 6 p.m.—A Listening Session will be held.

Thursday, June 12, 2014

8 a.m.—The Council will convene.

8 a.m. until 9 a.m.—The Omnibus Allowable Biological Catch (ABC) Framework (Framework Meeting 2) will be discussed.

9 a.m. until 10 a.m.—The Research Set-Aside (RSA) Program Review will be discussed.

10 a.m. until 1 p.m.—The Council will hold its regular Business Session to receive Organizational Reports, the New England and South Atlantic Liaison Reports, the Executive Director's Report, the Science Report, Committee Reports, and conduct any continuing and/or new business.

Agenda items by day for the Council's Committees and the Council itself are:

On Tuesday, June 10- The Surfclam and Ocean Quahog Committee with review the most recent information to determine if adjustments are needed for the 2015-16 fishing year and review draft alternatives for Amendment 17 (Cost Recovery Amendment) and provide input to the Fishery Management Action Team for continued Amendment development. The Ecosystems and Ocean Planning Committee will receive presentations on National and Regional habitat initiatives and discuss developing/enhancing the role of the Committee under the 2014-18 Strategic Plan.

On Wednesday, June 11—Surfclam and Ocean Quahog Specifications will be reviewed for 2015-16. Framework Meeting 1 to open the recreational black sea bass fishery in Wave 1 options will be reviewed. The River Herring and Shad Committee will meet as a Committee of the Whole to review and develop recommendations for the river herring/shad cap and review the progress on river herring/shad conservation. The Mackerel, Squid, and Butterfish Committee will meet as a Committee of the Whole to review the Scientific and Statistical Committee recommendations for the 2015 specifications, develop 2015 specifications and related management measures, and review the slippage provisions in Framework 9 relative to the slippage provision in Framework 4 of the Herring Fishery Management Plan. The Listening Session will focus on NOAA Recreational Policy.

On Thursday, June 12—Framework Meeting 2 of the Omnibus ABC Framework will be held to review suggested modifications to the ABC Omnibus Framework and take action as appropriate (multiyear ABC's, assessment level designations, reference points). The Research Set-Aside Program Review will discuss the timing of RSA quota availability (potential for availability in January—March), progress on the implementation of Council recommendations to improve the RSA program, recent enforcement activities, and the future direction of the RSA Program. The Council will hold its regular Business Session to receive Organizational Reports, the New England and South Atlantic Council Liaison Reports, the Executive Director's Report, Science Report, Committee Reports, and conduct any continuing and/or new business.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: May 20, 2014.
Tracey L. Thompson,
Acting Deputy Director, Office of Sustainable Fisheries, National Marine Fisheries Service.

[FR Doc. 2014-11945 Filed 5-22-14; 8:45 am]

BILLING CODE 3510-22-P